DEPARTMENT OF THE INTERIOR

Bureau of Land Management

[LLCAN00000.L18200000.XZ0000]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The committee will meet Wednesday and Thursday, Aug. 24 and 25, 2011, in Susanville, California. On Aug. 24, the RAC will convene at 10 a.m. at the Bureau of Land Management Eagle Lake Field Office, 2950 Riverside Dr., Susanville, and depart immediately for a field tour. Members of the public are welcome. They must provide their own transportation, food and beverages. On Aug. 25, the council meeting begins at 8 a.m. in the Conference Room of the BLM Eagle Lake Field Office. The public is welcome.

FOR FURTHER INFORMATION CONTACT: Nancy Haug, BLM Northern California District manager, (530) 224-2160; or Joseph J. Fontana, BLM public affairs officer, (530) 252-5332.

SUPPLEMENTARY INFORMATION: The 15-member council advises the Secretary of the Interior, through the BLM, on a variety of planning and management issues associated with public land management in northeast California and the northwest corner of Nevada. Agenda items at this meeting include management of wild horses and burros, stewardship contracting, alternative energy development, marijuana garden cleanup issues, status of a PG&E land transfer and the Sage Steppe Ecosystem Management Plan. The council will accept public comments at 11 a.m. Depending on the number of persons wishing to speak, and the time available, the time for individual comments may be limited. Individuals who plan to attend and need special assistance, such as sign language interpretation and other reasonable accommodations, should contact the BLM as provided above.

Dated: May 17, 2011.
Joseph J. Fontana,
Public Affairs Officer.

[FR Doc. 2011-13234 Filed 5-26-11; 8:45 am]

BILLING CODE 4310-40-P